DEPARTMENT OF THE INTERIOR

Bureau of Land Management

[(NM-920-08-1310FI); (OKNM 116599, OKNM 116600, OKNM 116604, OKNM 116605, OKNM 116606, OKNM 116607, OKNM 116609)]

Notice of Proposed Reinstatement of Terminated Oil and Gas Leases OKNM 116599, OKNM 116600,OKNM 116604, OKNM 116605, OKNM 116606, OKNM 116607, OKNM 116609

AGENCY: Bureau of Land Management, Interior.

ACTION: Notice of Reinstatement of Terminated Oil and Gas Leases.

SUMMARY: Under the Class II provisions of Title IV, Public Law 97-541, the Bureau of Land Management (BLM) received a Petition for Reinstatement of Oil and Gas Leases OKNM 116599, OKNM 116600, OKNM 116604, OKNM 116605, OKNM 116606, OKNM 116607 and OKNM 116609 from the lessee, Upland Exploration, Inc., for lands in Le Flore County, Oklahoma.

The petition was filed on time and was accompanied by all the rentals due since the date the leases terminated under the law.

FOR FURTHER INFORMATION CONTACT: Becky C. Olivas, BLM, New Mexico State Office, at (505) 438-7609.

SUPPLEMENTARY INFORMATION: No valid leases have been issued that affect the lands. The lessee agrees to new lease terms for rentals and royalties of $10.00 per acre or fraction thereof, per year, and 16⅔ percent, respectively. The lessee paid the required $500.00 administrative fee for the reinstatements of the leases and $166.00 cost for publishing this Notice in the Federal Register. The lessee met all the requirements for reinstatement of the leases as set out in Sections 31(d) and (e) of the Mineral Leasing Act of 1920 (30 U.S.C. 188). We are proposing to reinstate leases OKNM 116599, OKNM 116600, OKNM 116604, OKNM 116605, OKNM 116606, OKNM 116607 and OKNM 116609, effective the date of termination, September 1, 2007, under the original terms and conditions of the leases and the increased rental and royalty rates cited above. Before including your address, phone number, email address, or other personal identifying information in your comment, you should be aware that your entire comment—including your personal identifying information—may be publicly available at any time. While you can ask us in your comment to withhold your personal identifying information from public review, we cannot guarantee that we will be able to do so.

Dated: February 8, 2008.
Becky C. Olivas,
Land Law Examiner, Fluids Adjudication Team 1.

[FR Doc. E8-2846 Filed 2-14-08; 8:45 am]

BILLING CODE 4310-FB-P